DEPARTMENT OF DEFENSE

Department of the Army; Corps of Engineers

Intent To Prepare an Environmental Impact Statement for the Proposed Hackensack Meadowlands Ecosystem Restoration Project, Hackensack Meadowlands District, Bergen and Hudson Counties, NJ: Feasibility Phase

AGENCY: Department of the Army, U.S. Army Corps of Engineers, DoD.

ACTION: Notice of intent.

SUMMARY: In compliance with the National Environmental Policy Act (NEPA), the New York District of the U.S. Army Corps of Engineers (Corps) is preparing an Environmental Impact Statement (EIS) in accordance with Council on Environmental Quality regulations as defined and amended in 40 CFR parts 1500-1508 (promulgated pursuant to NEPA); Corps' principles and guidelines as defined in Engineering Regulations (ER) 1105-2-100, Planning Guidance Notebook, and ER 200-2-2, Procedures for Implementing NEPA; and other applicable Federal and State environmental laws for the proposed ecosystem restoration project in the Hackensack Meadowlands District, Bergen and Hudson Counties, New Jersey.

The study area, known as the Hackensack Meadowlands District, is located approximately five miles west of New York City in northern New Jersey, and comprises 30.4 square miles in portions of 14 municipalities in two counties; Carlstadt, East Rutherford, Little Ferry, Lyndhurst, Moonachie, North Arlington, Ridgefield, Rutherford, South Hackensack, and Teterboro in Bergen County and Jersey City, Kearny, North Bergen, and Secaucus in Hudson County. The District is bisected by the Hackensack River and the western spur of the NJ Turnpike (US Interstate 95) and approximately bordered to the north by State Route 46; to the east by US routes 1 and 9 (Tonnelle Avenue) and the freight railroad owned by Norfolk Southern and CSX Corporation (the former Conrail main line); to the south by the Port Authority Trans Hudson (PATH) railroad and the Pulaski Skyway; and to the west by the Pascack Valley and (former) Kingsland railroads and State Route 17.

ADDRESSES: U.S. Army Corps of Engineers, New York District, 26 Federal Plaza, New York, NY, 10278-0090.

FOR FURTHER INFORMATION CONTACT: Mr. Bill Shadel, Project Biologist and NEPA Coordinator, Planning Division, Environmental Analysis Branch; (212) 264-0570; or William.P.Shadel@usace.army.mil.

SUPPLEMENTARY INFORMATION: 1. The Hackensack Meadowlands Ecosystem Restoration Study is being carried out under the Corps' General Investigations Program. The study was authorized under the authorization of the Hudson-Raritan Estuary Feasibility Study in a resolution of the Committee on Transportation and Infrastructure of the U.S. House of Representatives, dated April 15, 1999, which reads:

Resolved by the Committee on Transportation and Infrastructure of the United States House of Representatives, That, the Secretary of the Army is requested to review the reports of the Chief of Engineers on the New York and New Jersey Channels, published as House Document 133, 74th Congress, 1st Session; the New York and New Jersey Harbor Entrance Channels and Anchorage Areas, published as Senate Document 45, 84th Congress, 1st Session; and the New York Harbor, NY Anchorage Channel, published as House Document 18, 71st Congress, 2nd Session, as well as other related reports with a view to determining the feasibility of environmental restoration and protection relating to water resources and sediment quality within the New York and New Jersey Port District, including but not limited to creation, enhancement, and restoration of aquatic, wetland, and adjacent upland habitats.

Section 324 of the Water Resources Development Act (WRDA) of 1992, as amended by Section 550 of the WRDA of 1996, authorized the Secretary of the Army to provide design and construction assistance to the New Jersey Meadowlands Commission of the State of New Jersey for the development of an environmental Improvement Program within the Hackensack Meadowlands District.

2. To advance the restoration of specific sites during the preparation of the EIS, separate Environmental Assessments will be completed for Anderson Creek in Secaucus and other sites throughout the Hackensack Meadowlands District.

3. Federal agencies interested in participating as a Cooperating Agency are requested to submit a letter of intent to Colonel Richard J. Polo, Jr., District Engineer (see ADDRESSES).

4. It is estimated that a draft EIS will be completed by April 2007, subject to availability of funds.

Leonard Houston,
Chief, Environmental Analysis Branch, Planning Division.

[FR Doc. 04-28331 Filed 12-27-04; 8:45 am]

BILLING CODE 3710-06-M